DEPARTMENT OF ENERGY

Federal Energy Regulatory Commission

[Docket No. AD16-3-000]

Notice of Availability of the Final Guidance Manual for Environmental Report Preparation

The staff of the Federal Energy Regulatory Commission's (FERC or Commission) Office of Energy Projects has finalized its revised Guidance Manual for Environmental Report Preparation (Guidance Manual), which was issued in draft form on December 18, 2015, for comment. The Guidance Manual has been revised to incorporate changed regulations; provide updated guidance on how to prepare resource reports and how interstate and liquefied natural gas (LNG) projects may demonstrate compliance with certain regulatory requirements; and address substantive comments received on the draft Guidance Manual.

The Guidance Manual can be found in Docket Number AD16-3-000. The full text of the Guidance Manual can be viewed on the Commission's Web site at http://www.ferc.gov/industries/gas/enviro/guidelines.asp.

Applicable sections of Title 18 of the Code of Federal Regulations are referenced or summarized throughout the Guidance Manual. The Guidance Manual is intended to provide guidance to the industry. This manual does not substitute for, amend, or supersede the Commission's regulations under the Natural Gas Act of 1938 or the Commission's and Council on Environmental Quality's regulations under the National Environmental Policy Act. It imposes no new legal obligations and grants no additional rights. Comments on the draft Guidance Manual that addressed only the text of regulations were not incorporated in the final Guidance Manual.

In response to the draft Guidance Manual, Commission staff received comments from a variety of industry representatives, trade associations, federal and state agencies, non-governmental organizations, public interest groups, consultants, and other interested parties. Staff reviewed and considered each comment and modified several portions of the document in response. Staff declined to modify the document where comments either were too project- or location-specific to be included in general guidance, were already adequately/accurately addressed as written, or regarded topics that were not relevant to the Guidance Manual or resource report preparation.

The Guidance Manual is divided into two volumes. Volume 1 relates to the preparation of resource reports for both interstate natural gas projects and Commission-jurisdictional LNG facilities. Volume 2 is specific to LNG facilities and is intended to replace a series of staff's previously developed guidance documents about the preparation and review of LNG applications: Draft Guidance on Resource Report 11 and 13 issued on December 15, 2005, Draft Preferred Format Submittal Guidance issued on April 12, 2006, and Draft FERC Seismic Design Guidelines and Data Submittal Requirements for LNG Facilities issued on January 23, 2007. These documents should be considered obsolete.

All of the information related to the proposed updates to the Guidance Manual and submitted comments can be found on the FERC Web site (www.ferc.gov) using the eLibrary link. Click on the eLibrary link, click on “Docket Search” and in the Docket Number field enter the docket number “AD16-3,” excluding the last three digits. For assistance, please contact FERC Online Support at FercOnlineSupport@ferc.gov or toll free at (866) 208-3676, or for TTY, contact (202) 502-8659. The eLibrary link also provides access to formal documents issued by the Commission, such as orders, notices, and rulemakings.

Dated: February 22, 2017.
Kimberly D. Bose,
Secretary.

[FR Doc. 2017-03840 Filed 2-27-17; 8:45 am]

BILLING CODE 6717-01-P